DEPARTMENT OF THE TREASURY

Office of Foreign Assets Control

31 CFR Part 591

Publication of Venezuela Sanctions Regulations Web General License 45A

AGENCY: Office of Foreign Assets Control, Treasury.

ACTION: Publication of Web General License.

SUMMARY: The Department of the Treasury's Office of Foreign Assets Control (OFAC) is publishing one general license (GL) issued pursuant to the Venezuela Sanctions Regulations: GL 45A, which was previously made available on OFAC's website.

DATES: GL 45A was issued on November 16, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On November 16, 2023, OFAC issued GL 45A to authorize certain transactions otherwise prohibited by the Venezuela Sanctions Regulations (VSR), 31 CFR part 591, or authorities incorporated therein. The GL was made available on OFAC's website (https://ofac.treasury.gov) when it was issued. GL 45A supersedes GL 45, which was issued on October 18, 2023. The text of GL 45A is provided below.

Office of Foreign Assets Control

Venezuela Sanctions Regulations 31 CFR Part 591

General License No. 45A

Authorizing Certain Transactions Involving Consorcio Venezolano de Industrias Aeronáuticas y Servicios Aéreos, S.A.

(a) Except as provided in paragraph (d) of this general license, all transactions ordinarily incident and necessary to the repatriation of Venezuelan nationals from non-U.S. jurisdictions in the Western Hemisphere to Venezuela, and which are exclusively for the purposes of such repatriation, involving Consorcio Venezolano de Industrias Aeronáuticas y Servicios Aéreos, S.A. (Conviasa), or any entity in which Conviasa owns, directly or indirectly, a 50 percent or greater interest, that are prohibited by Executive Order (E.O.) 13850, as amended by E.O. 13857, or E.O. 13884, each as incorporated into the Venezuela Sanctions Regulations, 31 CFR part 591 (the VSR), are authorized.

(b) Except as provided in paragraph (d) of this general license, all transactions ordinarily incident and necessary to the general maintenance (including repair) of the blocked aircraft listed in the Annex to this general license that are prohibited by E.O. 13850, as amended by E.O. 13857, or E.O. 13884, each as incorporated into the VSR, are authorized.

(c) Except as provided in paragraph (d) of this general license, all transactions ordinarily incident and necessary to non-commercial (i.e., not-for-profit) flights between non-U.S. jurisdictions in the Western Hemisphere and Venezuela of the blocked aircraft listed in the Annex to this general license that are prohibited by E.O. 13850, as amended by E.O. 13857, or E.O. 13884, each as incorporated into the VSR, are authorized.

(d) This general license does not authorize any transactions otherwise prohibited by the VSR, including any transactions involving any person blocked pursuant to the VSR other than the blocked persons or blocked aircraft described in paragraphs (a), (b) and (c) of this general license, Government of Venezuela persons blocked solely pursuant to E.O. 13884, Banco Central de Venezuela, or Banco de Venezuela SA Banco Universal.

(e) Effective November 16, 2023, General License No. 45, dated October 18, 2023, is replaced and superseded in its entirety by this General License No. 45A.

Note to General License 45A. Nothing in this general license relieves any person from compliance with any other Federal laws or requirements of other Federal agencies, including export, reexport, and transfer (in-country) licensing requirements maintained by the Department of Commerce's Bureau of Industry and Security under the Export Administration Regulations, 15 CFR parts 730-774.

Bradley T. Smith,

Director, Office of Foreign Assets Control.

Dated: November 16, 2023.

Annex—Blocked Aircraft Described in Paragraph (b) of General License 45A

List of blocked aircraft described in paragraph (b) of General License 45A:

(a) Aircraft Type: ERJ 190; Model: ERJ 190-100 IGW; Registration: YV 2849

(b) Aircraft Type: ERJ 190; Model: ERJ 190-100 IGW; Registration: YV 2850

(c) Aircraft Type: ERJ 190; Model: ERJ 190-100 IGW; Registration: YV 2851

(d) Aircraft Type: ERJ 190; Model: ERJ 190-100 IGW; Registration: YV 2911

(e) Aircraft Type: ERJ 190; Model: ERJ 190-100 IGW; Registration: YV 2912

(f) Aircraft Type: ERJ 190; Model: ERJ 190-100 IGW; Registration: YV 2913

(g) Aircraft Type: ERJ 190; Model: ERJ 190-100 IGW; Registration: YV 2943

(h) Aircraft Type: ERJ 190; Model: ERJ 190-100 IGW; Registration: YV 2944

(i) Aircraft Type: ERJ 190; Model: ERJ 190-100 IGW; Registration: YV 2953

(j) Aircraft Type: ERJ 190; Model: ERJ 190-100 IGW; Registration: YV 2954

(k) Aircraft Type: ERJ 190; Model: ERJ 190-100 IGW; Registration: YV 2964

(l) Aircraft Type: ERJ 190; Model: ERJ 190-100 IGW; Registration: YV 2965

(m) Aircraft Type: ERJ 190; Model: ERJ 190-100 IGW; Registration: YV 2966

(n) Aircraft Type: ERJ 190; Model: ERJ 190-100 IGW; Registration: YV 3052

(o) Aircraft Type: ERJ 190; Model: ERJ 190-100 IGW; Registration: YV 3071

(p) Aircraft Type: Lineage 1000; Model: ERJ 190-100 ECJ; Registration: YV 3016

Bradley T. Smith,
Director, Office of Foreign Assets Control.

[FR Doc. 2024-00879 Filed 1-17-24; 8:45 am]

BILLING CODE 4810-AL-P